DEPARTMENT OF THE INTERIOR

Fish and Wildlife Service

50 CFR Part 17

RIN 1018-AI52

Endangered and Threatened Wildlife and Plants; Proposed Designation of Critical Habitat for the Klamath River and Columbia River Distinct Population Segments of Bull Trout

AGENCY: Fish and Wildlife Service, Interior.

ACTION: Proposed rule; reopening of comment period.

SUMMARY: We, the U.S. Fish and Wildlife Service (Service), announce the reopening of the public comment period for the proposal to designate critical habitat for the Klamath River and Columbia River distinct population segments of bull trout (Salvelinus confluentus) to allow all interested parties additional time to comment on the proposed rule. Comments previously submitted need not be resubmitted as they will be incorporated into the public record as part of this extended comment period, and will be fully considered in preparation of the final rule.

DATES: We will accept comments on the proposed critical habitat designation until the close of business (5 p.m. Pacific standard time) on May 12, 2003.

ADDRESSES: Written comments and information should be submitted to John Young, Bull Trout Coordinator, U.S. Fish and Wildlife Service, Branch of Endangered Species, 911 NE. 11th Avenue, Portland, OR 97232. Written comments may also be sent by fax to 503/231-6243 or hand-delivered to our office at the above address. You may also send comments by electronic mail (e-mail) to: R1BullTroutCH@r1.fws.gov.

You may view comments and materials received, as well as supporting documentation used in the preparation of this proposed rule, by appointment, during normal business hours in the U.S. Fish and Wildlife Service Office at the above address. You may obtain copies of the proposed rule from the above address, by calling 503/231-6131, or from our Web site at: http://species.fws.gov/bulltrout.

FOR FURTHER INFORMATION CONTACT: John Young, at the address above (telephone 503/231-6131; facsimile 503/231-6243).

SUPPLEMENTARY INFORMATION:

Background

We published a proposed rule to designate critical habitat for the Klamath River and Columbia River distinct population segments of bull trout (Salvelinus confluentus) on November 29, 2002 (67 FR 71235). The proposed critical habitat designation includes approximately 29,720 kilometers (18,471 miles) of streams and 215,585 hectares (532,721 acres) of lakes, reservoirs, and marshes in Oregon, Washington, Idaho, and Montana. Designation would apply only to the waterways, not the adjacent lands. Under the terms of a court-approved settlement agreement, we are required to submit the final rule designating critical habitat to the Federal Register no later than October 1, 2003.

The 90-day comment period on the proposed designation of critical habitat originally closed on January 28, 2003. During that comment period, we received several letters requesting extension of the date for submitting comments. These requests cited the length and scope of the proposal as a key reason for needing additional time to gather information, conduct analyses, and prepare comments. We are re-opening the comment period in response to these requests.

Copies of the proposed designation of critical habitat are available on the Internet at http://www.r1.fws.gov or by contacting the Bull Trout Coordinator, U.S. Fish and Wildlife Service (see ADDRESSES section).

Public Comments Solicited

We are reopening the comment period at this time in order to accept the best and most current scientific and commercial data available regarding the proposed critical habitat designation for the Klamath River and Columbia River distinct population segments of bull trout. Previously submitted comments on the proposed designation need not be resubmitted. We will accept written comments and information during this reopened comment period. If you wish to comment, you may submit your comments and materials concerning this proposal by any of several methods:

You may mail or hand-deliver written comments and information to the Bull Trout Coordinator, U.S. Fish and Wildlife Service Office (see ADDRESSES section). Hand deliveries must be made during normal business hours.

You may also send comments by e-mail to: R1BullTroutCH@r1.fws.gov. If you submit comments by e-mail, please submit them as an ASCII file and avoid the use of special characters and any form of encryption. Please also include a return address in your e-mail message. If you do not receive a confirmation from the system that we have received your e-mail message, contact us directly by calling our office at telephone number 503/872-2766, during normal business hours.

As described in the preamble of the proposed rule, we are conducting an analysis of the economic impacts of designating the proposed critical habitat. We will publish a notice of availability in the Federal Register when the draft economic analysis becomes available and provide for a 30 day comment period, during which we will accept comments on the proposal as well as the draft economic analysis. We anticipate publication of the notice of availability within this current 90 day extension. The notice of availability will provide for the comment period to remain open until the end of this current 90 day extension or 30 days after publication of the notice, whichever is later.

Author

The primary author of this notice is Barbara Behan, U.S. Fish and Wildlife Service (see ADDRESSES section).

Authority

The authority for this action is the Endangered Species Act of 1973 (16 U.S.C. 1531 et seq.).

Dated: January 30, 2003.
Craig Manson,
Assistant Secretary for Fish and Wildlife and Parks.

[FR Doc. 03-3369 Filed 2-10-03; 8:45 am]

BILLING CODE 4310-55-P